DEPARTMENT OF HOMELAND SECURITY

Coast Guard

33 CFR Part 117

[Docket No. USCG-2017-0732]

Drawbridge Operation Regulation; Lake Washington Ship Canal, Seattle, WA

AGENCY: Coast Guard, DHS.

ACTION: Notice of deviation from drawbridge regulation.

SUMMARY: The Coast Guard has issued a temporary deviation from the operating schedule that governs the Montlake Bridge, across the Lake Washington Ship Canal, mile 5.2, at Seattle, WA. The deviation is necessary to accommodate vehicular traffic attending football games at Husky Stadium at the University of Washington, Seattle, WA. The deviation is necessary to allow the bridge to remain in the closed-to-navigation position two and a half hours before and two and a half hours after each game. The game times for five of the seven games scheduled for Husky Stadium have not yet been determined due to NCAA television scheduling.

DATES: This deviation is effective from 2:30 p.m. on September 9, 2017 through 11 p.m. on November 25, 2017.

ADDRESSES: The docket for this deviation, USCG-2017-0732 is available at http://www.regulations.gov. Type the docket number in the “SEARCH” box and click “SEARCH.” Click on Open Docket Folder on the line associated with this deviation.

FOR FURTHER INFORMATION CONTACT: If you have questions on this temporary deviation, call or email Mr. Steven Fischer, Bridge Administrator, Thirteenth Coast Guard District; telephone 206-220-7282, email: d13-pf-d13bridges@uscg.mil.

SUPPLEMENTARY INFORMATION: The Washington State Department of Transportation (the bridge owner), on behalf of the University of Washington Police Department, has requested that the Montlake Bridge bascule span remain in the closed-to-navigation position, and need not open to vessel traffic to facilitate timely movement of pre-game and post game football traffic at Husky Stadium at the University of Washington, Seattle, WA. The Montlake Bridge crosses the Lake Washington Ship Canal at mile 5.2; and in the closed-to-navigation position provides 30 feet of vertical clearance throughout the navigation channel and 46 feet of vertical clearance throughout the center 60-feet of the bridge. These vertical clearances are made in reference to the Mean Water Level of Lake Washington. The normal operating schedule for Montlake Bridge operates in accordance with 33 CFR 117.1051(e).

The deviation period will cover the following dates:

Time/date start | Time/date end | Action
2:30 a.m. Sep 9, 2017 | 5 p.m. Sep 9, 2017 | span in the closed-to-navigation position.
8:30 p.m. Sep 9, 2017 | 11 p.m. Sep 9, 2017 | span in the closed-to-navigation position.
4 p.m. Sep 16, 2017 | 6:30 p.m. Sep 16, 2017 | span in the closed-to-navigation position.
9:30 p.m. Sep 16, 2017 | 11:59 p.m. Sep 16, 2017 | span in the closed-to-navigation position.
TBA Oct 7, 2017 | TBA Oct 7, 2017 | span in the closed-to-navigation position.
TBA Oct 28, 2017 | TBA Oct 28, 2017 | span in the closed-to-navigation position.
TBA Nov 4, 2017 | TBA Nov 4, 2017 | span in the closed-to-navigation position.
TBA Nov 18, 2017 | TBA Nov 18, 2017 | span in the closed-to-navigation position.
TBA Nov 25, 2017 | TBA Nov 25, 2017 | span in the closed-to-navigation position.

The times for the closures on the dates with TBA (Time to Be Announced) will be determined, and announced in the Coast Guard's Local Notice to Mariners and Broadcast Notice to Mariners as they become available. Due to NCAA television scheduling, the times for the games are not currently available. The bridge shall operate in accordance to 33 CFR 117.1051(e) at all other times. Waterway usage on the Lake Washington Ship Canal ranges from commercial tug and barge to small pleasure craft. Vessels able to pass through the bridge in the closed-to-navigation position may do so at anytime. The bridge will be able to open for emergencies and there is no immediate alternate route for vessels to pass.

In accordance with 33 CFR 117.35(e), the drawbridges must return to its regular operating schedule immediately at the end of the designated time period. This deviation from the operating regulations is authorized under 33 CFR 117.35.

Dated: July 31, 2017.
Steven Michael Fischer,
Bridge Administrator, Thirteenth Coast Guard District.

[FR Doc. 2017-16502 Filed 8-4-17; 8:45 am]

BILLING CODE 9110-04-P